DEPARTMENT OF THE INTERIOR

National Park Service

National Register of Historic Places; Notification of Pending Nominations

Nominations for the following properties being considered for listing in the National Register were received by the National Park Service before July 12, 2003. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by August 7, 2003.

Carol D. Shull,
Keeper of the National Register of Historic Places.

ARKANSAS

Union County

El Dorado Commercial Historic District, Courthouse Square, portions of Main, Jefferson, Washington, Jackson, Cedar and Locust Sts., El Dorado, 03000773

CALIFORNIA

Los Angeles County

Andalusia, 1471-1475 Havenhurst Dr., Los Angeles, 03000775

Neutra, Richard and Dion, VDL Research House II, 2300 Silver Lake Blvd., Los Angeles, 03000774

COLORADO

Denver County

McPhee and McGinnity Paint Factory, 2519 Walnut St., Denver, 03000776

San Miguel County

Rio Grande Southern Railroad Trout Lake Water Tank, along North Trout Lake Rd., Ophir, 03000777

DISTRICT OF COLUMBIA

District of Columbia

Arden, Elizabeth, Building, 1147 Connecticut Ave., Washington, 03000778

Springland Springhouse—Springland (Boundary Increase), 3517 Springland Ln, NW., Washington, 03000779

ILLINOIS

Cook County

Armour Square (Chicago Park District MPS), Bounded by W 33rd St., W 34th Place, S. Wells Ave. and S. Shields Ave., Chicago, 03000789

Calumet Park (Chicago Park District MPS), 9801 South Avenue G, Chicago, 03000788

Davis Square (Chicago Park District MPS), Roughlu bounded by W. 44th St., W, 45th St., S. Marshfield Ave. and S. Hemitage Ave., Chicago, 03000787

Palmolive Building, 919 N. Michigan Ave., Chicago, 03000784

Reid House, 2013 S. Prairie Ave., Chicago, 03000783

Washington Square Historic District (Land Subdivisions with Set-Aside Parks, Chicago, IL MPS), Washington Square, N. Dearborn St., from W. Walton St. to W. Chicago Ave., Chicago, 03000786

Lake County

Holy Family Church, 1840 Lincoln St., North Chicago, 03000780

Snite, John Taylor, House (Highland Park MRA), 225 N. Deere Park Ave. E, Highland Park, 03000790

Rock Island County

Sala Apartment Building, 320-330 Nineteenth St., Rock Island, 03000782

MASSACHUSETTS

Middlesex County

Bedford Depot, 80 Loomis St. and 120 South Rd., Bedford, 03000791

Wilson Mill—Old Burlington Road District, Old Burlington Rd. and Wilson Rd., Bedford, 03000792

Suffolk County

Publicity Building, 40-44 Bromfield St., Boston, 03000781

MISSOURI

Cole County

East End Drugs, 630 E. High St., Jefferson City, 03000794

Dent County

Nova Scotia Ironworks Historic District, Mark Twain National Forest, Salem, 03000793

NEBRASKA

Adams County

Central Hastings Historic District, Roughly 7th to 12th; Colorado Ave to Bellevue Ave., Hastings, 03000795

Lancaster County

Nebraska State Historical Society Building, 1500 R St., Lincoln, 03000797

Saunders County

Kirchman, F.J., House, 957 Beech St., Wahoo, 03000796

NEW MEXICO

De Baca County

Fort Sumner Community House (New Mexico Federation of Women's Club Buildings in New Mexico MPS), Jct. of U.S. 84 and Baker Ave., Fort Sumner, 03000798

NORTH CAROLINA

Buncombe County

Biltmore Hardware Building (Biltmore Village MRA), 28-32 Hendersonville Rd., Asheville, 03000800

Chatham County

Brewer, Sheriff Stephen Wiley, Farmstead (Pittsboro MRA), 365 Thompson St., Pittsboro, 03000801

Craven County

Cedar Street Recreation Center, 822 Cedar St., New Bern, 03000802

Cumberland County

Brownlea, 405 Southampton Court, Fayetteville, 03000803

Durham County

Venable Tobacco Company Prizery and Receiving Room, (Durham MRA), 302-04 East Pettigrew, Durham, 03000804

Yancey County

Yancey Collegiate Institute Historic District, School Dr. and Green Mountain Dr., Burnsville, 03000799

OHIO

Allen County

Lima Pennsylvania Railroad Passenger Depot, 424 N. Central Ave., Lima, 03000805

Hamilton County

Freund—Heintz House, 3332 Whitfield Ave., Cincinnati, 03000806

TEXAS

McLennan County

Texas Textile Mills—L.L. Sams Company Historic District, 2100 River St., Waco, 03000807

Nacogdoches County

Durst—Taylor House, 304 North St., Nacogdoches, 03000808

WASHINGTON

Garfield County

Downtown Pomeroy Historic District, Roughly bounded by Main St., Tenth and Ninth Sts., Columbia St., and Sixth St., Pomeroy, 03000811

Spokane County

Barnett, Alonzo and Louise, House, 902 E. Augusta Ave., Spokane, 03000809

Whitman County

U.S. Post Office—Pullman, (Historic U.S. Post Offices in Washington MPS), SE 245 Paradise St., Pullman, 03000810

[FR Doc. 03-18679 Filed 7-22-03; 8:45 am]

BILLING CODE 4312-51-P